NUCLEAR REGULATORY COMMISSION

Biweekly Notice; Applications and Amendments to Facility Operating Licenses Involving No Significant Hazards Considerations

I. Background

Pursuant to section 189a.(2) of the Atomic Energy Act of 1954, as amended (the Act), the U.S. Nuclear Regulatory Commission (the Commission or NRC staff) is publishing this regular biweekly notice. The Act requires the Commission publish notice of any amendments issued, or proposed to be issued and grants the Commission the authority to issue and make immediately effective any amendment to an operating license upon a determination by the Commission that such amendment involves no significant hazards consideration, notwithstanding the pendency before the Commission of a request for a hearing from any person.

This biweekly notice includes all notices of amendments issued, or proposed to be issued from December 4, 2008 to December 17, 2008. The last biweekly notice was published on December 16, 2008 (73 FR 76407).

Notice of Consideration of Issuance of Amendments to Facility Operating Licenses, Proposed No Significant Hazards Consideration Determination, and Opportunity for a Hearing

The Commission has made a proposed determination that the following amendment requests involve no significant hazards consideration. Under the Commission's regulations in 10 CFR 50.92, this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Written comments may be submitted by mail to the Chief, Rulemaking, Directives and Editing Branch, Division of Administrative Services, Office of Administration, U.S. Nuclear Regulatory Commission, Washington, DC 20555-0001, and should cite the publication date and page number of this Federal Register notice. The filing of requests for a hearing and petitions for leave to intervene is discussed below.

Within 60 days after the date of publication of this notice, person(s) may file a request for a hearing with respect to issuance of the amendment to the subject facility operating license and any person whose interest may be affected by this proceeding and who wishes to participate as a party in the proceeding must file a written request via electronic submission through the NRC E-Filing system for a hearing and a petition for leave to intervene. Requests for a hearing and a petition for leave to intervene shall be filed in accordance with the Commission's “Rules of Practice for Domestic Licensing Proceedings” in 10 CFR Part 2. Interested person(s) should consult a current copy of 10 CFR 2.309, which is available at the Commission's PDR, located at One White Flint North, Public File Area 01F21, 11555 Rockville Pike (first floor), Rockville, Maryland. Publicly available records will be accessible from the Agencywide Documents Access and Management System's (ADAMS) Public Electronic Reading Room on the Internet at the NRC Web site, http://www.nrc.gov/reading-rm/doc-collections/cfr/. If a request for a hearing or petition for leave to intervene is filed within 60 days, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also set forth the specific contentions which the petitioner/requestor seeks to have litigated at the proceeding.

Each contention must consist of a specific statement of the issue of law or fact to be raised or controverted. In addition, the petitioner/requestor shall provide a brief explanation of the bases for the contention and a concise statement of the alleged facts or expert opinion which support the contention and on which the petitioner/requestor intends to rely in proving the contention at the hearing. The petitioner/requestor must also provide references to those specific sources and documents of which the petitioner is aware and on which the petitioner/requestor intends to rely to establish those facts or expert opinion. The petition must include sufficient information to show that a genuine dispute exists with the applicant on a material issue of law or fact. Contentions shall be limited to matters within the scope of the amendment under consideration. The contention must be one which, if proven, would entitle the petitioner/requestor to relief. A petitioner/requestor who fails to satisfy these requirements with respect to at least one contention will not be permitted to participate as a party.

Those permitted to intervene become parties to the proceeding, subject to any limitations in the order granting leave to intervene, and have the opportunity to participate fully in the conduct of the hearing.

If a hearing is requested, and the Commission has not made a final determination on the issue of no significant hazards consideration, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, any hearing held would take place before the issuance of any amendment.

A request for hearing or a petition for leave to intervene must be filed in accordance with the NRC E-Filing rule, which the NRC promulgated in August 28, 2007 (72 FR 49139). The E-Filing process requires participants to submit and serve documents over the Internet or in some cases to mail copies on electronic storage media. Participants may not submit paper copies of their filings unless they seek a waiver in accordance with the procedures described below.

To comply with the procedural requirements of E-Filing, at least five (5) days prior to the filing deadline, the petitioner/requestor must contact the Office of the Secretary by e-mail at hearingdocket@nrc.gov, or by calling (301) 415-1677, to request (1) a digital ID certificate, which allows the participant (or its counsel or representative) to digitally sign documents and access the E-Submittal server for any proceeding in which it is participating; and/or (2) creation of an electronic docket for the proceeding (even in instances in which the petitioner/requestor (or its counsel or representative) already holds an NRC-issued digital ID certificate). Each petitioner/requestor will need to download the Workplace Forms Viewer™ to access the Electronic Information Exchange (EIE), a component of the E-Filing system. The Workplace Forms Viewer™ is free and is available at http://www.nrc.gov/site-help/e-submittals/install-viewer.html. Information about applying for a digital ID certificate is available on NRC's public Web site at http://www.nrc.gov/site-help/e-submittals/apply-certificates.html.

Once a petitioner/requestor has obtained a digital ID certificate, had a docket created, and downloaded the EIE viewer, it can then submit a request for hearing or petition for leave to intervene. Submissions should be in Portable Document Format (PDF) in accordance with NRC guidance available on the NRC public Web site at http://www.nrc.gov/site-help/e-submittals.html. A filing is considered complete at the time the filer submits its documents through EIE. To be timely, an electronic filing must be submitted to the EIE system no later than 11:59 p.m. Eastern Time on the due date. Upon receipt of a transmission, the E-Filing system time-stamps the document and sends the submitter an e-mail notice confirming receipt of the document. The EIE system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically may seek assistance through the “Contact Us” link located on the NRC Web site at http://www.nrc.gov/site-help/e-submittals.html or by calling the NRC technical help line, which is available between 8:30 a.m. and 4:15 p.m., Eastern Time, Monday through Friday. The help line number is (800) 397-4209 or locally (301) 415-4737.

Participants who believe that they have a good cause for not submitting documents electronically must file a motion, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville, Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service.

Non-timely requests and/or petitions and contentions will not be entertained absent a determination by the Commission, the presiding officer, or the Atomic Safety and Licensing Board that the petition and/or request should be granted and/or the contentions should be admitted, based on a balancing of the factors specified in 10 CFR 2.309(c)(1)(i)-(viii). To be timely, filings must be submitted no later than 11:59 p.m. Eastern Time on the due date.

Documents submitted in adjudicatory proceedings will appear in NRC's electronic hearing docket which is available to the public at http://ehd.nrc.gov/EHD_Proceeding/home.asp, unless excluded pursuant to an order of the Commission, an Atomic Safety and Licensing Board, or a Presiding Officer. Participants are requested not to include personal privacy information, such as Social Security numbers, home addresses, or home phone numbers in their filings. With respect to copyrighted works, except for limited excerpts that serve the purpose of the adjudicatory filings and would constitute a Fair Use application, participants are requested not to include copyrighted materials in their submission.

For further details with respect to this amendment action, see the application for amendment which is available for public inspection at the Commission's PDR, located at One White Flint North, Public File Area 01F21, 11555 Rockville Pike (first floor), Rockville, Maryland. Publicly available records will be accessible from the ADAMS Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr.resource@nrc.gov.

Arizona Public Service Company, et al., Docket Nos. STN 50-528, STN 50-529, and STN 50-530, Palo Verde Nuclear Generating Station, Units 1, 2, and 3, Maricopa County, Arizona

Date of amendment request: November 13, 2008.

Description of amendment request: The amendments would modify Technical Specification (TS) 3.5.5, “Refueling Water Tank (RWT),” for Palo Verde Nuclear Generating Station (PVNGS), Units 1 and 3 to increase the minimum required RWT level indications and the corresponding borated water volumes in TS Figure 3.5.5-1 by 3 percent. In addition, the proposed amendments would incorporate editorial changes to TS Figure 3.5.5-1 for PVNGS, Units 1, 2, and 3 to provide consistent formatting of the RWT volumetric values provided in the Figure.

Basis for proposed no significant hazards consideration determination: As required by 10 CFR 50.91(a), the licensee has provided its analysis of the issue of no significant hazards consideration, which is presented below:

1. Do the proposed amendments involve a significant increase in the probability or consequences of an accident previously evaluated?

Response: No.

The proposed substantive change will increase the TS RWT minimum water level for PVNGS[,] Units 1 and 3 by 3 percent to ensure that there is adequate water volume available at the containment recirculation sumps for the limiting small break LOCA [loss-of-coolant accident] scenario. As detailed in Sections 2 and 3 of this evaluation [Arizona Public Service Company letter dated November 13, 2008], this change ensures sufficient flood level for strainer submergence and ESF [engineered safety feature] pump operation.

The RWT water volume is not an initiator of any accident previously evaluated. As a result, the probability of an accident previously evaluated is not affected. The proposed change does not alter or prevent the ability of structures, systems, and components from performing their intended function to mitigate the consequences of an initiating event within the assumed acceptance limits.

The effect of the proposed changes in RWT minimum water level on containment flood level, equipment qualification, and containment sump pH remain within the limits assumed in the design and accident analyses. The calculated maximum containment flood level is based on the RWT water level associated with the bottom of the RWT overflow nozzle. This change does not revise the location of the RWT overflow nozzle and there is no change in the calculated maximum flood level. As a result, the proposed change has no impact on the qualification of equipment above the maximum containment flood level.

The impact of the proposed change on post-LOCA sump pH was evaluated and found to [be] bounded by the current analysis for post-LOCA sump pH. In that analysis, the calculated minimum post-LOCA sump pH is based on the maximum RWT water level associated with the bottom of the RWT overflow nozzle. The maximum flood level is not affected by this change. In addition, the change is conservative with respect to the calculated maximum post-LOCA sump pH since it is increasing the minimum required RWT volume. Specifically, the maximum post-LOCA sump pH is calculated based on an assumed minimum RWT level (to minimize sump boron concentration and required Tri-Sodium Phosphate), since a lower assumed minimum RWT level would result in a higher calculated maximum pH. Thus, the current calculated maximum post-LOCA sump pH remains bounding for the proposed increase in the TS minimum RWT level.

The proposed change does not affect the source term, containment isolation, or radiological release assumptions used in evaluating the radiological consequences of an accident previously evaluated. Further, the proposed change does not increase the types or amounts of radioactive effluent that may be released offsite, nor significantly increase individual or cumulative occupational/public radiation exposures. The proposed change is consistent with the safety analysis assumptions and resultant consequences.

The proposed editorial TS changes are made only to ensure consistency in the formatting of volumetric values and would not materially affect the intent or content of the TS. As such, the editorial changes do not affect the probability or consequences of an accident previously evaluated.

Therefore, the proposed amendments do not involve a significant increase in the probability or consequences of an accident previously evaluated.

2. Do the proposed amendments create the possibility of a new or different kind of accident from any accident previously evaluated?

Response: No.

The proposed change to raise the required RWT minimum water level does not change a design function or operation of structures, systems, and components. The proposed change does not create new failure mechanisms, malfunctions, or accident initiators not already considered in the design basis. The proposed change does not involve a physical alteration of the plant (i.e., no new or different components or physical changes are involved with this change) or a change in the methods governing normal plant operation. Finally, the proposed change does not alter any assumptions made in the safety analysis.

The proposed editorial TS changes are made only to ensure consistency in the formatting of volumetric values and would not materially affect the intent or content of the TS. As such, the editorial changes do not create the possibility of an accident.

Therefore, the proposed amendments do not create the possibility of a new or different kind of accident from any accident previously evaluated.

3. Do the proposed amendments involve a significant reduction in a margin of safety?

Response: No.

The proposed change to raise the required RWT minimum water level does not alter the manner in which safety limits, limiting safety system settings or limiting conditions for operation are determined. The safety analysis acceptance criteria are not affected by this change. The proposed change will not result in plant operation in a configuration outside of the design basis.

The proposed editorial TS changes are made only to ensure consistency in the formatting of volumetric values and would not materially change the intent of the TS. As such, the editorial changes do not modify any margin of safety.

Therefore, the proposed amendments do not involve a significant reduction in a margin of safety.

The NRC staff has reviewed the licensee's analysis and, based on that review, it appears that the three standards of 10 CFR 50.92(c) are satisfied. Therefore, the NRC staff proposes to determine that the request for amendments involves no significant hazards consideration.

Attorney for licensee: Michael G. Green, Senior Regulatory Counsel, Pinnacle West Capital Corporation, P.O. Box 52034, Mail Station 8695, Phoenix, Arizona 85072-2034.

NRC Branch Chief: Michael T. Markley.

Entergy Operations Inc., Docket No. 50-382, Waterford Steam Electric Station, Unit 3, St. Charles Parish, Louisiana

Date of amendment request: September 18, 2008.

Description of amendment request: The proposed amendment revises Action Statements ‘a' and ‘b' of Technical Specification 3/4.9.6, “Refueling Machine,” to clarify the acceptability of placing a suspended fuel assembly or control element assembly (CEA) within the reactor vessel in a safe condition while restoring the refueling machine operability.

Basis for proposed no significant hazards consideration determination: As required by 10 CFR 50.91(a), the licensee has provided its analysis of the issue of no significant hazards consideration, which is presented below:

1. Does the proposed change involve a significant increase in the probability or consequences of an accident previously evaluated?

Response: No.

The proposed change clarifies an acceptable approach to recovering from an inoperable refueling machine, such as a computer failure, wherein it becomes necessary to raise the fuel assembly or CEA without automatic overload cut off protection in service to place the load in a safe condition.

In this scenario, the refueling machine operator compensates for the lack of availability of an automatic overload cut off during raising the hoist using the key override feature to reset the refueling machine computer. Inspection for and assessment of entanglement of a fuel assembly or CEA with reactor internals or other fuel assemblies or CEAs and taking evaluated steps to free the same from entanglement precludes the potential for a fuel handling accident. These actions are to minimize the potential for fuel assembly damage so that the worst case fuel handling accident (fuel assembly drop) remains bounding. Therefore, there is no increase in the probability or consequences of the worst case accident previously evaluated.

2. Does the proposed change create the possibility of a new or different kind of accident from any accident previously evaluated?

Response: No.

The Technical Specification required overload cut off interlock is bypassed when raising a fuel assembly in key override mode. However, in the applicable case of raising the refueling machine hoist to the up limit with a fuel assembly or CEA attached, the refuel machine operator would manually compensate for the lack of availability of the automatic overload cut off. The load cell remains functional with a failed refueling machine computer and the operator can visually monitor changes in load while slowly and carefully raising the hoist to the up limit to reset the computer. The manual monitoring of load is not impacted by the criteria in NRC Information Notice 97-78 associated with crediting manual operator actions since the actions are not associated with actuating safety systems or mitigating an accident. The proposed changes provide essential clarification that allows a refuel operation to recover from a condition involving an inoperable refueling machine with a fuel assembly or CEA suspended in the reactor vessel. No new accident initiators are introduced by this change. The overload cut off will be manually compensated for by the refueling machine operator while resetting the computer to reestablish the automatic overload cut off interlock. Therefore, the proposed changes do not create the possibility of a new or different kind of accident from any previously evaluated.

3. Does the proposed change involve a significant reduction in a margin of safety?

Response: No.

The revised Technical Specification ACTION statement changes do not involve a significant reduction in the margin of safety. The changes provide an acceptable approach to recovery from an inoperable Refueling Machine. The changes clarify an already existing success path to restoring the refueling machine to service. The overload cut off will be manually compensated for by the refueling machine operator while raising or lowering the load. As such, the change does not impact the margin to safety. The changes ensure adherence to the original Bases to protect the core internals and pressure vessel from excessive lifting force in the event they are inadvertently engaged during lifting with the refueling machine inoperable (e.g., failed computer).

The NRC staff has reviewed the licensee's analysis and, based on this review, it appears that the three standards of 10 CFR 50.92(c) are satisfied. Therefore, the NRC staff proposes to determine that the amendment request involves no significant hazards consideration.

Attorney for licensee: Terence A. Burke, Associate General Counsel—Nuclear Entergy Services, Inc., 1340 Echelon Parkway, Jackson, Mississippi 39213.

NRC Branch Chief: Michael T. Markley.

Exelon Generation Company, LLC, Docket Nos. 50-373 and 50-374, LaSalle County Station, Units 1 and 2, LaSalle County, Illinois.

Date of amendment request: September 11, 2008.

Description of amendment request: The proposed amendments would remove time, cycle, or modification-related items from the operating licenses (OLs) and technical specifications (TSs). Additionally, the proposed amendment corrects a typographical error introduced into the TS in a previous amendment. The time, cycle, or modification-related items have been implemented or superseded, are no longer applicable, and no longer need to be maintained in their associated OLs or TSs.

Basis for proposed no significant hazards consideration determination: As required by 10 CFR 50.91(a), the licensee has provided its analysis of the issue of no significant hazards consideration, which is presented below:

1. Does the proposed amendment involve a significant increase in the probability or consequences of an accident previously evaluated?

Response: No.

The initial conditions and methodologies used in the accident analyses remain unchanged. The proposed changes do not change or alter the design assumptions for the systems or components used to mitigate the consequences of an accident. Therefore, accident analyses results are not changed.

All changes proposed by EGC [Exelon Generation Company, LLC] in this amendment request are administrative in nature, and are removing one-time requirements that have been satisfied or items that are no longer applicable. There are no physical changes to the facilities, nor any changes to the station operating procedures, limiting conditions for operation, or limiting safety system settings.

Based on the above discussion, the proposed changes do not involve a significant increase in the probability or consequences of an accident previously evaluated.

2. Does the proposed amendment create the possibility of a new or different kind of accident from any accident previously evaluated?

Response: No.

None of the proposed changes affect the design or operation of any system, structure, or component in the plant. The safety functions of the related structures, systems, or components are not changed in any manner, nor is the reliability of any structure, system, or component reduced by the revised surveillance or testing requirements. The changes do not affect the manner by which the facility is operated and do not change any facility design feature, structure, system, or component. No new or different type of equipment will be installed. Since there is no change to the facility or operating procedures, and the safety functions and reliability of structures, systems, or components are not affected, the proposed changes do not create the possibility of a new or different kind of accident from any accident previously evaluated.

Based on this evaluation, the proposed changes do not create the possibility of a new or different kind of accident from any accident previously evaluated.

3. Does the proposed amendment involve a significant reduction in a margin of safety?

Response: No.

The proposed changes to the Facility Operating Licenses and TS are administrative in nature and have no impact on the margin of safety of any of the TS. There is no impact on safety limits or limiting safety system settings. The changes do not affect any plant safety parameters or setpoints. The OLCs [Operating License Conditions] have been satisfied as required.

Based on this evaluation, the proposed changes do not involve a significant reduction in a margin of safety.

The NRC staff has reviewed the licensee's analysis and, based on this review, it appears that the three standards of 10 CFR 50.92(c) are satisfied. Therefore, the NRC staff proposes to determine that the requested amendments involve no significant hazards consideration.

Attorney for licensee: Mr. Bradley J. Fewell, Associate General Counsel, Exelon Nuclear, 4300 Winfield Road, Warrenville, IL 60555.

NRC Branch Chief: Russell Gibbs.

Exelon Generation Company, LLC, Docket Nos. 50-254 and 50-265, Quad Cities Nuclear Power Station, Units 1 and 2, Rock Island County, Illinois

Date of amendment request: December 21, 2007, as supplemented by letters dated August 14, 2008, October 15, 2008, and December 9, 2008.

Description of amendment request: Exelon Generation Company, LLC (EGC) requests an amendment to Facility Operating License Nos. DPR-29 and DPR-30 for Quad Cities Nuclear Power Station (QCNPS), Units 1 and 2. The proposed change revises Technical Specifications (TS) Surveillance Requirement (SR) 3.8.4.2 and SR 3.8.4.5 to establish an acceptance criterion to verify that total battery connector resistances for the 125 volts Direct Current (VDC) and 250 VDC batteries are within pre-established limits that ensure the batteries can perform their design function. The proposed incorporation of the acceptance criterion in SR 3.8.4.2 and SR 3.8.4.5 is conservative, as it establishes a restriction on total battery connector resistance which will ensure design functions are achievable.

Basis for proposed no significant hazards consideration determination: As required by 10 CFR 50.91(a), an analysis of the issue of no significant hazards consideration is presented below:

1 . Does the proposed change involve a significant increase in the probability or consequences of an accident previously evaluated?

Response: No.

The revisions of SR 3.8.4.2 and SR 3.8.4.5 to establish a total battery connector resistance acceptance criterion will not challenge the ability of the safety-related batteries to perform their safety function. Appropriate monitoring and maintenance will continue to be performed on the safety-related batteries. In addition, the safety-related batteries are within the scope of 10 CFR 50.65, “Requirements for monitoring the effectiveness of maintenance at nuclear power plants,” which will ensure the control of maintenance activities associated with this equipment.

TS requirements will continue to require that the equipment be regularly monitored and tested. Since the proposed change does not alter the manner in which the batteries are operated, there is no significant impact on reactor operation.

The proposed change does not involve a physical change to the batteries, nor does it change the safety function of the batteries. The proposed TS revision involves no significant changes to the operation of any systems or components in normal or accident operating conditions and no changes to existing structures, systems, or components.

Therefore, these changes will not increase the probability or consequences of an accident previously evaluated.

2. Does the proposed change create the possibility of a new or different kind of accident from any accident previously evaluated?

Response: No.

The proposed changes revising SR 3.8.4.2 and SR 3.8.4.5 to establish an acceptance criterion for total battery connector resistance is an increase in conservatism, without a change in system testing methods, operation, or control. Safety-related batteries installed in the plant will be required to meet criteria more restrictive and conservative than current acceptance criteria and standards. The proposed change does not affect the manner in which the batteries are tested and maintained; therefore, there are no new failure mechanisms for the system.

Therefore, the proposed change does not create the possibility of a new or different kind of accident from any previously evaluated.

3. Does the proposed change involve a significant reduction in a margin of safety?

Response: No.

The margin of safety is established through the design of the plant structures, systems, and components, the parameters within which the plant is operated, and the setpoints for the actuation of equipment relied upon to respond to an event. The proposed change does not modify the safety limits or setpoints at which protective actions are initiated. The change is conservative and further ensures the availability and operability of the safety-related batteries. As such, sufficient DC capacity to support operation of mitigation equipment is enhanced, which results in an increase in the margin of safety.

Therefore, the proposed change does not involve a significant reduction in the margin of safety.

Based on the above analysis, it appears that the three standards of 10 CFR 50.92(c) are satisfied. Therefore, the NRC staff proposes to determine that the requested amendments involve no significant hazards consideration.

Attorney for licensee: Mr. Bradley J. Fewell, Associate General Counsel, Exelon Nuclear, 4300 Winfield Road, Warrenville, IL 60555.

NRC Branch Chief: Russell Gibbs.

Notice of Issuance of Amendments to Facility Operating Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License, Proposed No Significant Hazards Consideration Determination, and Opportunity for A Hearing in connection with these actions was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items are available for public inspection at the Commission's Public Document Room (PDR), located at One White Flint North, Public File Area 01F21, 11555 Rockville Pike (first floor), Rockville, Maryland. Publicly available records will be accessible from the Agencywide Documents Access and Management Systems (ADAMS) Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr.resource@nrc.gov.

Carolina Power & Light Company, Docket Nos. 50-325 and 50-324, Brunswick Steam Electric Plant, Units 1 and 2, Brunswick County, North Carolina

Date of application for amendments: June 19, 2008.

Brief Description of amendments: The amendments revise Limiting Condition for Operation (LCO) 3.10.1, and the associated Bases, to expand its scope to include provisions for temperature excursions greater than 212 degrees Fahrenheit as a consequence of inservice leak and hydrostatic testing, and as a consequence of scram time testing initiated in conjunction with an inservice leak or hydrostatic test, while considering operational conditions to be in Mode 4.

The NRC issued a “Notice of Availability of Model Application on Technical Specification Improvement to Modify Requirements Regarding LCO 3.10.1, Inservice Leak and Hydrostatic Testing Operation Using the Consolidated Line Item Improvement Process,” associated with Technical Specification Task Force (TSTF) Improved Standard Technical Specification Change Traveler, TSTF-484, Revision 0, in the Federal Register on October 27, 2006 (71 FR 63050).

Date of issuance: December 9, 2008.

Effective date: As of the date of issuance and shall be implemented within 60 days.

Amendment Nos.: 249 and 277.

Facility Operating License Nos. DPR-71 and DPR-62: Amendments change the Technical Specifications.

Date of initial notice in Federal Register: October 7, 2008 (73 FR 58672). The Commission's related evaluation of the amendments is contained in a Safety Evaluation dated December 9, 2008.

No significant hazards consideration comments received: No.

Entergy Nuclear Operations, Inc., Docket Nos. 50-247 and 50-286, Indian Point Nuclear Generating Unit Nos. 2 and 3 (IP2 and IP3), Westchester County, New York

Date of application for amendment: March 13, 2008.

Brief description of amendment: The amendment revises the licensing basis for passive failures in fluid systems for IP2 and IP3 such that the loss-of-coolant accident (LOCA) recirculation phase single passive failure is assumed to occur 24 hours or greater following initiation of a LOCA. Also, the IP2 single passive failure licensing basis for the component cooling water system is revised such that a passive failure is assumed to occur 24 hours or greater following initiation of a LOCA.

Date of issuance: December 4, 2008.

Effective date: As of the date of issuance, and shall be implemented within 30 days.

Amendment No.: 257 and 238.

Facility Operating License Nos. DPR-26 and DPR-64: The amendment revised the License and the Updated Final Safety Analysis Report.

Date of initial notice in Federal Register: July 1, 2008 (73 FR 37503). The Commission's related evaluation of the amendment is contained in a Safety Evaluation dated December 4, 2008.

No significant hazards consideration comments received: No.

Entergy Nuclear Operations, Inc., Docket No. 50-293, Pilgrim Nuclear Power Station, Plymouth County, Massachusetts

Date of application for amendment: November 29, 2007.

Brief description of amendment: The amendment revised the Technical Specification (TS) requirements related to control room envelope habitability in TS 3.7.B.2 “Control Room High Efficiency Air Filtration System (CRHEAFS)” and TS Section 5.5 “Administrative Controls—Programs and Manuals” consistent with Technical Specification Task Force (TSTF)-448, Revision 3. The availability of TS improvement was announced in the Federal Register on January 17, 2007 (72 FR 2022), including a model safety evaluation and model no significant hazards consideration determination, as part of the consolidated line item improvement process.

Date of issuance: November 20, 2008.

Effective date: As of the date of issuance, and shall be implemented within 60 days.

Amendment No.: 231.

Facility Operating License No. DPR-35: The amendment revised the License and TSs.

Date of initial notice in Federal Register: January 29, 2008 (73 FR 5218).

No significant hazards consideration comments received: No.

Exelon Generation Company, LLC, Docket Nos. STN 50-456 and STN 50-457, Braidwood Station, Units 1 and 2, Will County, Illinois

Docket Nos. STN 50-454 and STN 50-455, Byron Station, Unit Nos. 1 and 2, Ogle County, Illinois.

Date of application for amendment: March 18, 2008.

Brief description of amendment: The amendments revise the numbering scheme of Surveillance Requirements (SRs) 3.3.2.6 and 3.3.2.7 for Technical Specification (TS) 3.3.2, “Engineered Safety Feature Actuation System (ESFAS) Instrumentation,” to correct inconsistencies introduced in previous license amendments issued by the Nuclear Regulatory Commission staff. The amendments also supersede the 120-day period for implementation of the changes to SRs 3.3.2.6 and 3.3.2.7, approved in the previous license amendments.

Date of issuance: December 3, 2008.

Effective date: As of the date of issuance and shall be implemented within 30 days.

Amendment Nos.: Braidwood Unit 1—154; Braidwood Unit 2—154; Byron Unit No. 1—159; and Byron Unit No. 2—159.

Facility Operating License Nos. NPF-72, NPF-77, NPF-37, and NPF-66: The amendments revise the TSs and Licenses.

Date of initial notice in Federal Register: June 17, 2008 (73 FR 34341).

The Commission's related evaluation of the amendments is contained in a Safety Evaluation dated December 3, 2008.

No significant hazards consideration comments received: No.

FPL Energy Duane Arnold, LLC, Docket No. 50-331, Duane Arnold Energy Center, Linn County, Iowa

Date of application for amendment: December 20, 2007.

Brief description of amendment: The amendment adds surveillance requirements to the Technical Specifications, Section 3.7.2, “River Water Supply (RWS) System and Ultimate Heat Sink (UHS),” to require surveillance of the Cedar River depth to assure UHS operability.

Date of issuance: December 3, 2008.

Effective date: As of the date of issuance and shall be implemented within 120 days of the date of issuance.

Amendment No.: 272.

Facility Operating License No. DPR-49: The amendment revised the Technical Specifications.

Date of initial notice in Federal Register: June 17, 2008 (73 FR 34342)

The Commission's related evaluation of the amendment is contained in a Safety Evaluation dated December 3, 2008.

No significant hazards consideration comments received: No.

PPL Susquehanna, LLC, Docket Nos. 50-387 and 50-388, Susquehanna Steam Electric Station, Units 1 and 2, Luzerne County, Pennsylvania

Date of application for amendments: March 28, 2008, as supplemented by a letter dated August 29, 2008.

Brief description of amendments: The amendments revised PPL Susquehanna, LLC, Units 1 and 2 (PPL) Technical Specifications (TSs) 3.8.4, “DC Sources—Operating,” to establish two new Conditions, A and B, the associated Required Actions with their completion times, and also, make some editorial and administrative changes.

Date of issuance: December 11, 2008.

Effective date: December 11, 2008.

Amendment Nos.: 248 for Unit 1 and 227 for Unit 2.

Facility Operating License Nos. NPF-14 and NPF-22: The amendments revised the Facility Operating Licenses and Technical Specifications.

Date of initial notice in Federal Register: May 6, 2008 (73 FR 25044). The supplemental letter dated August 29, 2008, provided additional information that clarified the application, did not expand the scope of the application as originally noticed, and did not change the staff's original proposed no significant hazards consideration determination as published in the Federal Register. The Commission's related evaluation of the amendments is contained in a Safety Evaluation dated December 11, 2008.

No significant hazards consideration comments received: No.

Virginia Electric and Power Company, et al., Docket Nos. 50-280 and 50-281, Surry Power Station, Units 1 and 2, Surry County, Virginia

Date of application for amendments: April 2, 2008.

Brief description of amendments: The proposed change revised Technical Specification (TS) Section 5.0, “Design Features,” to delete certain design details and descriptions included in TS 5.0 that are appropriately controlled by other applicable TSs, or does not meet the criteria of Title 10 of the Code of Federal Regulations, Section 50.36(c)(4) for inclusion in the TSs, and are already contained in the Updated Final Safety Analysis Report. The change also revised the format of, and incorporated design descriptions into, TS 5.0 consistent with the content and format of NUREG-1431, “Standard Technical Specifications Westinghouse Plants”. A minor editorial change was made to address a previously deleted paragraph. Section 5.2, “Containment” was removed from the TSs in its entirety. The change removed the statement regarding how draining of the spent fuel pool in prevented and included a statement in the TS that would limit draining the spent fuel pool below a specific elevation. A previously established spent fuel pool storage capacity was also incorporated into the TSs.

Date of issuance: December 10, 2008.

Effective date: As of the date of issuance and shall be implemented within 30 days.

Amendment Nos.: 262/262.

Renewed Facility Operating License Nos. DPR-32 and DPR-37: Amendments changed the licenses and the technical specifications.

Date of initial notice in Federal Register: May 20, 2008 (73 FR 29165). The proposed amendment was re-noticed on November 4, 2008 (73 FR 65699). The Commission's final no significant hazards consideration determination and related evaluation of the amendments is contained in a Safety Evaluation dated December 10, 2008.

No significant hazards consideration comments received: No.

Dated at Rockville, Maryland, this 18th day of December 2008.
Joseph G. Giitter,
Director, Division of Operating Reactor Licensing, Office of Nuclear Reactor Regulation.

[FR Doc. E8-30779 Filed 12-29-08; 8:45 am]

BILLING CODE 7590-01-P